DEPARTMENT OF HEALTH AND HUMAN SERVICES

Health Resources and Services Administration

Small Health Care Provider Quality Improvement Program

AGENCY: Health Resources and Services Administration, HHS.

ACTION: Notice of Class Deviation From Competition Requirements for Small Health Care Provider Quality Improvement.

SUMMARY: The Office of Rural Health Policy (ORHP) will award program expansion supplemental awards to the current Small Health Care Provider Quality Improvement (Quality) program grantees. The program expansion supplemental funds will allow current Quality program grantees: To provide education to those new to health care coverage about health care benefits to which they have access; to raise awareness about the importance of receiving routine primary care and regular preventive services; and to expand outreach and enrollment activities for the next Affordable Care Act's (ACA) Health Insurance Marketplace open enrollment period (November 15, 2014-February 15, 2015). The goals of this supplemental funding are to (1) increase the number of newly insured individuals educated about the benefits and primary care and preventive services to which they now have access, (2) increase the number of uninsured individuals educated about their coverage options, and (3) increase the number of uninsured individuals enrolled into the Health Insurance Marketplaces or other available sources of insurance, such as Medicaid and the Children's Health Insurance Program.

SUPPLEMENTARY INFORMATION:

Intended Recipient of the Award: Current Quality program grantees (Quantity: 29).

Amount of Non-Competitive Awards: $25,000/award

Period of Supplemental Funding: September 15, 2014-July 31, 2015.

CFDA Number: 93.912

Authority: Public Health Service Act, Section 330A (g) (42 U.S.C. 254c(g)), as amended.

Justification: The fiscal year (FY) 2014 Quality ACA OEE grantees are uniquely qualified for the outreach, enrollment and education work required in this supplement. First, the supplemental funding aligns with the Quality program. The objectives of the Quality program include: Improved health outcomes; enhanced chronic disease management; and better engagement of patients and their caregivers. These objectives are consistent with the activities proposed under this supplemental funding opportunity, which includes helping individuals better understand their health coverage, raising awareness about the importance of receiving routine primary care, and increasing the use of regular preventive services. Second, Quality program grantees are encouraged to maximize funding by billing for third party reimbursement for covered services. Educating and enrolling eligible individuals into health insurance coverage would help Quality program grantees achieve this goal. Third, these grantees know the rural communities they serve and have the capacity to provide the services needed for outreach, enrollment, and education in time for the next open enrollment period for ACA which begins on November 15, 2014.

FOR FURTHER INFORMATION CONTACT: Ann Ferrero, MPH Community Based Division, Office of Rural Health Policy, Health Resources and Services Administration, 5600 Fishers Lane, Room 17W21-B, Rockville, Maryland 20857, By phone: 301-443-3999, or email: aferrero@hrsa.gov.

Dated: August 21, 2014.
Mary K. Wakefield,
Administrator.

[FR Doc. 2014-20389 Filed 8-26-14; 8:45 am]

BILLING CODE 4165-15-P